DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Assistant Administrator of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | *Elevation in feet (NGVD) +Elevation in feet (NAVD) #Depth in feet above ground Modified
Burnett County, Texas (Unincorporated Areas)
Docket No.: B-7464
Texas | Burnett County (Unincorporated Areas) | Colorado River (Lake Travis) | Approximately 2000 feet upstream from Shaw Drive (Burnett/Travis County Line) | *722
Texas | Burnett County (Unincorporated Areas) | Colorado River (Lake Travis) | Eastern face of Max Starcke Dam | *724
# Depth in feet above ground.
* National Geodetic Vertical Datum.
+ North American Vertical Datum.
ADDRESSES
Burnett County (Unincorporated Areas)
Maps are available for inspection at 220 South Pierce Street, Room 17, Burnett, TX 78611.

Flooding source(s) | Location of referenced elevation | *Elevation in feet (NGVD) +Elevation in feet (NAVD) #Depth in feet above ground Modified | Communities affected
Clinton County, New York (All Jurisdictions)
Docket No.: FEMA-D-7688
AuSable River | Approximately 2.2 miles upstream of Lower Road Bridge | +491 | Town of Ausable.
| At the confluence with West Branch AuSable River | +550 | Town of Black Brook.
Fern Lake | The entire shoreline | +1,225 | Town of Black Brook.
Salmon River | Approximately 2,750 feet upstream of Fox Farm Road | +306 | Town of Peru.
| Approximately 1.2 miles upstream of Conners Road | +585 |
Saranac River | Approximately 5,100 feet upstream of Ore Bed Road | +1,090 | Town of Black Brook.
| Approximately 170 feet upstream of Union Falls Road | +1,414 |
West Branch | At the confluence with AuSable River | +550 | Town of Black Brook.
AuSable River | Approximately 170 feet upstream of the confluence with AuSable River | +551 |
# Depth in feet above ground.
* National Geodetic Vertical Datum.
+ North American Vertical Datum.
ADDRESSES
Town of Ausable
Maps are available for inspection at the Ausable Town Office, 111 Ausable Street, Keeseville, New York.
Town of Black Brook
Maps are available for inspection at the Black Brook Town Office, 18 North Main Street, Ausable Forks, New York.
Town of Peru
Maps are available for inspection at the Peru Town Office, 3036 Main Street, Peru, New York.
McClain County, Oklahoma, and Incorporated Areas
Docket No.: FEMA-B-7473
Beaver Creek | Confluence with Walnut Creek Purcell Lake | +1042 +1049 | City of Purcell.
Crooked Bridge Creek | Approximately 2000 feet downstream of the intersection with State Route 74 | +1102 | Town of Goldsby.
| Approximately 2800 feet upstream from the intersection with State Route 746 | +1198 |
Walnut Creek | Approximately 100 feet upstream from intersection with Interstate Highway 35 | +1045 | City of Purcell, McClain County (Unincorporated Areas)
| Approximately 3000 feet upstream from the intersection with W. Adams Street | +1049
# Depth in feet above ground.
* National Geodetic Vertical Datum.
+ North American Vertical Datum.
ADDRESSES
City of Purcell
Maps are available for inspection at 230 W. Main, Purcell, OK 73080.
Town of Goldsby
Maps are available for inspection at 100 E. Center Rd., Goldsby, OK 73093.
McClain County (Unincorporated Areas)
Maps are available for inspection at 121 N. 2nd, Purcell, OK 73080.
Snyder County, Pennsylvania, and Incorporated Areas
Docket No.: FEMA-B-7473
Middle Creek | Approximately 550 feet upstream of Middle Creek Road | +433 | Township of Union, Township of Penn.
| Approximately 750 feet downstream of Legislative Route 229 | +433 |
Penns Creek | Approximately at Penns Creeks confluence with the Susquehanna River | +431 | Borough of Selinsgrove, Township of Penn, Township of Union.
| Approximately 3250 feet downstream of Gravel Pit Road | +439 |
Penns Creek | Approximately 7000 feet downstream of Legislative Route 509 | +452 | Township of Jackson.
| Approximately 7200 feet upstream of Legislative Route 509 | +466 |
Silver Creek | Approximately 780 feet downstream of U.S. Routes 11 & 15 | +420 | Township of Union.
| Approximately 980 feet upstream of U.S. Routes 11 & 15 | +421 |
South Tributary | Approximately 420 feet downstream of Market Street | +435 | Township of Penn, Borough of Selinsgrove.
| Just upstream of West Sandhill Road | +435 |
Susquehanna River | Approximately at the Juniata & Snyder County boundary | +405 | Township of Penn, Borough of Selinsgrove, Borough of Shamokin Dam, Township of Chapman, Township of Monroe, Township of Union.
| Approximately at Route 11 at the boundary of Snyder & Union Counties | +448 |
West Mahantango Creek | Approximately at West Mahantango Creek's Confluence with Susquehanna River | +405 | Township of Chapman
| Approximately 175 feet downstream of Old Trail Road | +405
# Depth in feet above ground.
* National Geodetic Vertical Datum.
+ North American Vertical Datum.
ADDRESSES
Borough of Selinsgrove
Maps are available for inspection at 1 North High Street, Selinsgrove, PA 17870.
Borough of Shamokin Dam
Maps are available for inspection at 144 West Eighth Ave, Shamokin Dam, PA 17876.
Township of Chapman
Maps are available for inspection at 1151 Wagner Hill Road, Port Trevorton, PA 17864.
Township of Jackson
Maps are available for inspection at 57 Municipal Road, Winfield, PA 17889.
Township of Monroe
Maps are available for inspection at 39 Municipal Drive, Selinsgrove, PA 17870.
Township of Penn
Maps are available for inspection at 12 Clifford Road, Selinsgrove, PA 17870.
Township of Union
Maps are available for inspection at 1510 McNess Road, Port Trevorton, PA 17864.
Cumberland County, Tennessee, and Incorporated Areas
Docket No.: FEMA-B-7702
Obed River | At Interstate Highway 40 | +1674 | Cumberland County (Unincorporated Areas).
| At confluence with Obed Creek | +1702 | City of Crossville.
Obed Creek | At confluence with Obed River | +1702 | City of Crossville.
| Approximately 1500 feet upstream of confluence with Town Branch | +1736 |
* National Geodetic Vertical Datum.
# Depth in feet above ground.
+ North American Vertical Datum.
ADDRESSES
Cumberland County (Unincorporated Areas)
Maps are available for inspection at: Cumberland County, 2 North Main Street, Suite 203, Crossville, TN 38555.
City of Crossville
Maps are available for inspection at: Cumberland County EOC, 42 Southbend Drive, Crossville, TN 38555.
Whatcom County, Washington, and Incorporated Areas
Docket No.: FEMA-B-7704
Birch Bay | Intersection of Birch Bay Drive and Lora Lane | *8 | Whatcom County (Unincorporated Areas).
| Intersection of Birch Bay Drive and Harborview Road | *12 |
| 500 feet southwest of the intersection of Comox Road and Nakat Place | *14 |
Lummi Bay | 2000 feet south of the intersection of Sicia Drive and Germaine Road, 100 feet west of Sucia Drive | *10 | Tribe of Lummi Indian Reservation.
| 1500 feet north of the intersection of Sucia Drive and Thetis Street, 100 feet west of Sucia Drive | *11 |
* National Geodetic Vertical Datum.
# Depth in feet above ground.
+ North American Vertical Datum.
ADDRESSES
Tribe of Lummi Indian Reservation
Maps are available for inspection at Lummi Land Development Office, 2616 Kwina Drive, Bellingham, WA 98226.
Whatcom County (Unincorporated Areas)
Maps are available for inspection at Whatcom County Public Works, River and Flood Division, 322 North Commercial Street, Suite 1200, Bellingham, WA 98225.

(Catalog of Federal Domestic Assistance No. 97.022, “Flood Insurance.”)

Dated: May 24, 2007.
David I. Maurstad,
Federal Insurance Administrator of the National Flood Insurance Program, Federal Emergency Management Agency, Department of Homeland Security.

[FR Doc. E7-10961 Filed 6-8-07; 8:45 am]

BILLING CODE 9110-12-P